FEDERAL RESERVE SYSTEM

Sunshine Act Meeting; Notice

Agency Holding the Meeting: Board of Governors of the Federal Reserve System

Time and Date: 10 a.m., Wednesday, January 10, 2001.

Place: Marriner S. Eccles Federal Reserve Board Building, C Street entrance between 20th and 2lst Streets, NW., Washington, DC 20551

Status: Open

Matters to be Considered:

Discussion Agenda

1. Consideration of a final rule under Regulation Y (Bank Holding Companies and Change in Bank Control) to implement provisions of the Gramm-Leach-Bliley Act governing merchant banking investments made by financial holding companies (Docket No. R-1065). This rule revises and replaces an interim rule published for comment last year.

2. Any items carried forward from a previously announced meeting.

Note: This meeting will be recorded for the benefit of those unable to attend. Cassettes will be available for listening in the Board's Freedom of Information Office, and copies may be ordered for $6 per cassette by calling 202-452-3684 or by writing to: Freedom of Information Office, Board of Governors of the Federal Reserve System, Washington, D.C. 20551.

Contact Person for More Information: Lynn S. Fox, Assistant to the Board; 202-452-3204.

SUPPLEMENTARY INFORMATION: You may call 202-452-3206 for a recorded announcement of this meeting; or you may contact the Board's Web site at http://www.federalreserve.gov for an electronic announcement. (The Web site also includes procedural and other information about the open meeting.)

Dated: January 3, 2001.
Robert deV. Frierson,
Associate Secretary of the Board.

[FR Doc. 01-501 Filed 1-4-01; 11:05 am]

BILLING CODE 6210-01-P